FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
013154N | Fastpak Express Corporation, 17907 S. Figueroa Street, Unit A, Gardena, CA 90248 | May 4, 2005.
015131N | Formosa International Freight Forwarder, Inc., 20 West Lincoln Avenue, Suite 302, Valley Stream, NY 11580 | May 15, 2005.

Sandra L. Kusumoto,
Director, Bureau of Certification and Licensing.

[FR Doc. 05-14290 Filed 7-19-05; 8:45 am]

BILLING CODE 6730-01-P